DEPARTMENT OF THE INTERIOR

National Indian Gaming Commission

25 CFR Parts 502, 514, 531, 533, 535, 537, 539, 556, 558, 571, and 573

Amendments to Various National Indian Gaming Commission Regulations

AGENCY: National Indian Gaming Commission, Interior.

ACTION: Notice of extension of comment period.

SUMMARY: The National Indian Gaming Commission (“NIGC”) announces the extension of the comment period on the proposed rule concerning various amendments to the National Indian Gaming Commission regulations. The proposed rule was published in the Federal Register on December 22, 2008 (73 FR 78242). The NIGC is extending the comment period to March 9, 2009.

DATES: Submit comments on the proposed various amendments to the National Indian Gaming Commission regulations on or before March 9, 2009.

ADDRESSES: Comments can be faxed, mailed, or e-mailed. Mail comments to “Comments on Administrative Regulations,” National Indian Gaming Commission, 1441 L St., NW., Washington, DC 20005, Attn: Rebecca Chapman, Office of General Counsel. Comments may be faxed to 202-632-7066 (not a toll-free number). Comments may be sent electronically to adminregs@nigc.gov. Comments may also be submitted through the Federal eRulemaking portal at www.regulations.gov.

FOR FURTHER INFORMATION CONTACT: Rebecca Chapman, Staff Attorney, Office of General Counsel, at (202) 632-7003; fax (202) 632-7066 (not toll-free numbers).

SUPPLEMENTARY INFORMATION: Congress established the National Indian Gaming Commission under the Indian Gaming Regulatory Act of 1988 (25 U.S.C. 2701-21) (“IGRA”) to regulate gaming on Indian lands. The NIGC issued a proposed rule updating various NIGC regulations and streamlining procedures. The NIGC then published it in the Federal Register on December 22, 2008 (73 FR 78242). The proposed rule provided for public comments to be submitted by February 5, 2009. The NIGC is extending the comment period to March 9, 2009. Comments should be submitted on or before that date.

Dated: January 14, 2009.
Philip N. Hogen,
Chairman, National Indian Gaming Commission.
Norman H. DesRosiers,
Vice Chairman, National Indian Gaming Commission.

[FR Doc. E9-1346 Filed 1-23-09; 8:45 am]

BILLING CODE 7565-01-P